EXECUTIVE OFFICE OF THE PRESIDENT

National Partnership for Reinventing Government

BEST Communities: Boosting Education, Skills and Training

AGENCY: National Partnership for Reinventing Government.

ACTION: Notice of performance partners with community-based coalitions.

AUTHORITY CITATION: Non-statutory.

Background: The number one problem facing American business today is a shortage of highly skilled workers. America's competitiveness and the prosperity of the American people will depend increasingly upon high-skill, high-wage jobs. Realizing this potential will require investing in education and learning so all of our people can continue to learn throughout their lifetime and get the skills they need to succeed in the 21st century.

The BEST Communities initiative was recommended by the 21st Century Leadership Group—a forum of leaders from business, organized labor, education, and all levels of government—convened by the Vice President in January 1999. The Vice President asked the group to develop a set of recommendations to their peers that would help ensure a prepared and thriving workforce in the next century.

Their report, Skills for a New Century: A Blueprint for Lifelong Learning, presented to the Vice President in November 1999, outlined five broad recommendations to provide adults the skills they need and employers the skilled employees needed to remain competitive.

(1) Deliver education and training that is tied to high standards, leads to useful credentials and meets labor market needs.

(2) Improve access to financial resources for lifetime learning for all adult Americans, including those in low-wage jobs.

(3) Promote learning at a time, place, and manner that meets worker needs and interests, including through the use of learning technologies to enable learning at home, the workplace, or elsewhere.

(4) Encourage and motivate adults to pursue further education and training and inform them of resources available to help them do so.

(5) Form partnerships among a wide array of organizations and stakeholders to support workforce development and lifelong learning for adults.

Based on the Leadership Group's recommendation, the Vice President announced a new initiative to assist local communities interested in developing and implementing community-wide strategies to help adults get the skills they need to succeed. This effort would support community-based partnerships involving business, labor, education and government that develop plans focused on clear, objective, measurable goals for adult learning and skill development across a community. Existing web sites will be used to share key information and best practices across a broader network of communities.

Announcement: The National Partnership for Reinventing Government is seeking ten performance partners with community-based coalitions that want to work with Federal partners to enhance education, skills, training and lifelong learning for adults in their community. Community-based partnerships that are not selected as one of the performance partners will be invited to become charter members of the larger BEST Network.

The BEST Network will connect communities across the country to demonstrate model ways to encourage lifelong learning. The overall initiative also seeks to minimize administrative barriers to problem solving and help communities maximize currently available federal resources.

This is the first step toward creating a national network of communities working together and sharing best practices to help more adults get 21st century skills and find more opportunities for lifelong learning. The network will help communities collaborate with each other, across sectors and with the federal partners to:

• Increase the number of Americans with 21st century skills and help them find high-skill, high-wage jobs;

• Close the Skills Gap;

• Promote lifelong learning;

• Address barriers at the federal, state, and local level—in ways allowable under current law—to increase the flexibility and effectiveness of resources;

• Obtain technical support and facilitate access to best practices employed in various communities; and

• Share lessons with other communities.

What Are The Benefits To Communities? This is not a grant program and includes no new Federal funds. To help community, State and local partners, Federal partners will:

• Participate in the formation of a national “community of practice” that shares best practices and works together to solve problems and get results.

• Assign a federal “champion” to each performance partner to help communities navigate the hallways of inter-governmental programs, policies, and federal resources across government;

• Help create solid management systems that focus on meaningful outcomes for learners;

• Provide increased access to federal data and geographic information related to 21st century skills, jobs and work trends; and

• Facilitate consolidated reporting and increased flexibility in administration—within existing legal requirements—for communities that use Federal funds from different government departments and agree to public measures of outcomes and results.

The larger BEST Network will:

• Connect communities and relevant agencies with peers working on similar issues;

• Share lessons learned;

• Give national recognition to innovative communities for their effective strategies and results;

• Link to other, related federal initiatives; and

• Help communities and local agencies measure results and obtain expert advice in devising strategies for collecting, analyzing, and using data to achieve results.

Who Can Apply To Be a Local Partner? Expressions of Interest can be submitted by the head of a community-based partnership, local government, network of local governments, state or local workforce development agency, or network of state or local agencies or organizations. Where state funds or agencies are involved or where federal funds flow through the state, there must be clear evidence of state partnership.

How Does My Community Express Interest in the BEST Network? Potential partners should submit a brief Expression of Interest. To minimize any burden, submissions should be under ten pages in length. Communities are encouraged to use existing plans and documents wherever possible.

Selection Criteria: A cross-agency team will select local partners based on:

• Existence of a partnership that crosses sectors such as business, labor, education and government.

• A community-wide plan for adult learning and skill development that has clear, objective, measurable goals.

• Effective leadership and participation of key stakeholders such as community, business, labor, and educational leaders; federal, state, and local officials; faith community representatives; and others.

• Readiness and commitment of partners to work together, cut red tape, coordinate operations, use current funding more effectively, and achieve better results.

• Potential impact of proposed performance partnership on closing the skills gap in the local community, as demonstrated by a focus on one or more of the five broad recommendations in the report Skills for a New Century: A Blueprint for Lifelong Learning;

• Balance in terms of geography, demographic characteristics, and areas of focus.

The BEST Network will be supported by the Lifelong Learning Inter-Agency Strategy Group that includes representatives of the U.S. Departments of Labor, Education, and Commerce, facilitated by the Vice President's National Partnership for Reinventing Government.

Expressions of Interest: Expressions of Interest in partnerships must be received by close of business on February 25, 2000. They may be submitted by mail, fax or electronically to: BEST Communities, National Partnership for Reinventing Government, Suite 200, 750 17th Street NW, Washington, DC 20007, Fax: (202) 632-0390, or e:mail at BEST@npr.gov.

FOR FURTHER INFORMATION CONTACT: Dr. Lynn S. Kahn, (202) 694-0038, lynn.kahn@npr.gov; or Meshell Jones, (202) 694-0122; meshell.jones@npr.gov.

Dated: January 20, 2000.
Lynn S. Kahn,
Team Leader.

[FR Doc. 00-2814 Filed 2-7-00; 8:45 am]

BILLING CODE 3115-01-P